Proclamation 8614 of December 7, 2010

National Pearl Harbor Remembrance Day, 2010

By the President of the United States of America

A Proclamation

Nearly 70 years ago, on December 7, 1941, our service members and civilians awoke on a quiet Sunday to a surprise attack on Pearl Harbor by Japanese forces. Employing whatever weapons were at hand, those who defended Hawaii that fateful morning stand as examples of the selfless heroism that has always characterized the Armed Forces of the United States. More than 3,500 Americans were killed or wounded, and the images of burning battleships and the grief for lives lost were forever seared into our national memory.

The deadly attack on Pearl Harbor did not accomplish its mission of breaking the American spirit. Instead, it reinforced our resolve. Americans responded with unity and courage to a tragedy that President Franklin D. Roosevelt called “a date which will live in infamy.” In the aftermath of Pearl Harbor, thousands of resolute individuals immediately volunteered their service to a grieving Nation. Sixteen million of America’s sons and daughters served during World War II, and more than 400,000 paid the ultimate sacrifice in defense of life and liberty. Countless other patriots served on the home front, aiding the war effort by working in manufacturing plants, participating in rationing programs, or planting Victory gardens. In the face of great loss, America once again showed the resilience and strength that have always characterized our great country.

The Allied Forces battled the scourge of tyranny and ultimately spread the transformative march of freedom. As we recognize the 65th anniversary of the end of World War II this year, we honor not only those who gave their lives that December day, but also all those in uniform who travelled to distant theaters of war to halt the progression of totalitarianism and hate. In honor of all who have borne the cost of battle throughout America’s history, let us pledge to meet our debt of honor and uphold the ideals they fought to preserve.

The Congress, by Public Law 103-308, as amended, has designated December 7 of each year as “National Pearl Harbor Remembrance Day.”

NOW, THEREFORE, I, BARACK OBAMA, President of the United States of America, do hereby proclaim December 7, 2010, as National Pearl Harbor Remembrance Day. I encourage all Americans to observe this solemn day of remembrance and to honor our military, past and present, with appropriate ceremonies and activities. I urge all Federal agencies and interested organizations, groups, and individuals to fly the flag of the United States at half-staff this December 7 in honor of those American patriots who died as a result of their service at Pearl Harbor.

IN WITNESS WHEREOF, I have hereunto set my hand this seventh day of December, in the year of our Lord two thousand ten, and of the Independence of the United States of America the two hundred and thirty-fifth.

[FR Doc. 2010-31128

Filed 12-8-10; 8:45 am]

Billing code 3195-W1-P